DEPARTMENT OF AGRICULTURE

Animal and Plant Health Inspection Service

[Docket No. APHIS-2013-0009]

Notice of Availability of Treatment Evaluation Documents for Various Plant Commodities

AGENCY: Animal and Plant Health Inspection Service, USDA.

ACTION: Notice of availability and request for comments.

SUMMARY: We are advising the public that we have determined that it is necessary to immediately add to the Plant Protection and Quarantine Treatment Manual treatment schedules for various plant commodities. We have prepared four treatment evaluation documents that describe the new treatment schedules and explain why we have determined that they are effective at neutralizing certain target pests. We are making these treatment evaluation documents available to the public for review and comment.

DATES: We will consider all comments that we receive on or before May 27, 2014.

ADDRESSES: You may submit comments by either of the following methods:

• Federal eRulemaking Portal: Go to http://www.regulations.gov/#!documentDetail;D=APHIS-2013-0009-0001.

• Postal Mail/Commercial Delivery: Send your comment to Docket No. APHIS-2013-0009, Regulatory Analysis and Development, PPD, APHIS, Station 3A-03.8, 4700 River Road, Unit 118, Riverdale, MD 20737-1238.

Supporting documents and any comments we receive on this docket may be viewed at http://www.regulations.gov/#!docketDetail;D=APHIS-2013-0009 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Inder P.S. Gadh, Senior Risk Manager-Treatments, PPQ, APHIS, 4700 River Road Unit 133, Riverdale, MD 20737-1231; (301) 851-2018.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in part 305 of 7 CFR chapter III (referred to below as the regulations) set out standards for treatments required in parts 301, 318, and 319 of 7 CFR chapter III for fruits, vegetables, and other articles.

In § 305.2, paragraph (b) states that approved treatment schedules are set out in the Plant Protection and Quarantine (PPQ) Treatment Manual.¹ Section 305.3 sets out the processes for adding, revising, or removing treatment schedules in the PPQ Treatment Manual. In that section, paragraph (b) sets out the process for adding, revising, or removing treatment schedules when there is an immediate need to make a change. The circumstances in which an immediate need exists are described in § 305.3(b)(1). They are:

¹ The Treatment Manual is available at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

We have added five and removed one treatment schedule, and revised one treatment schedule. The proposed changes to the PPQ Treatment Manual are as follows:

Methyl Bromide Treatment of Asparagus Against External Pests

Treatment T101-b-1 in the PPQ Treatment Manual requires asparagus to be fumigated using 4 lbs MB/1,000 ft ³ for 2 hours at 40-49 °F. APHIS has determined that treatment T101-b-1 is not effective against eggs of Copitarsia sp. and that a longer treatment or higher dose of methyl bromide is needed to ensure treatment efficacy for all stages of that pest. Therefore, APHIS has revised treatment schedule T101-b-1 by increasing the treatment duration by 30 minutes for all temperature ranges.

Hot Water Dip Treatment of Plant Material Not Tolerant to Chemical Fumigation

Special permit conditions authorize PPQ to import some otherwise prohibited plant material, subject to certain conditions. For plant material intolerant to fumigation, these conditions are described in treatment schedule T201-p-3. APHIS has determined that treatment T201-p-3 is not effective for many pests of concern and that an alternate hot water treatment with a higher temperature and a longer treatment period is more effective against a wide range of pests that may accompany consignments. For this reason, we are removing treatment schedule T201-p-3 from the treatment manual and adding new treatment schedule T201-p-4 requiring hot water treatment at 52 °C (125.6 °F) for 30 minutes.

Cold Treatment for Snails on Articles Used for Food or Feed

The treatment manual lists several cold treatments (T403-a-2-3, T403-a-6-1, T403-a-6-2, and T403-a-6-3) to control quarantine significant snails on non-food or non-feed type commodities. In the absence of approved cold treatments to control snails on food or feed commodities, APHIS has allowed the cold treatments approved for non-food/non-feed commodities to be used on a case-by-case basis on food and feed commodities. Because the use of cold treatment in these circumstances has not resulted in the snail's introduction, APHIS has determined that those treatments could be used effectively to control snails on food and feed commodities without causing significant injury to the treated commodities and cover more families or genera of exotic snails. Therefore, we are adding treatments T110-c-1, T110-c-2, and T110-c-3 for use on food and feed commodities.

Heat Treatment for Plant Pathogenic Bacteria and Fungi on Dried Plant Parts, Including Wood and Articles Made From Wood

Section 319.40 of the regulations lays out the requirements for the importation of wood and articles made with wood. Because there are no broad spectrum heat treatments for plant pathogenic bacteria and fungi on dried plant parts, dried plant parts including wood and articles made with wood that are found to be infested with plant pathogenic bacteria and fungi are destroyed or sent back to the country of origin. APHIS has decided to add a new treatment schedule (T521) for plant pathogenic bacteria and fungi on dried plant parts, including wood and articles made with wood.

Therefore, in accordance with § 305.3(a)(1), we are providing notice that we have determined that it is necessary to make the changes described above to the treatment manual. In order to have minimum adverse impact on ongoing trade and using the immediate process as provided in § 305.3(b), these changes are effective immediately upon publication of this notice. These treatment schedules will be listed in the PPQ Treatment Manual, which will indicate that these changes were made through the immediate process described in paragraph (b) of § 305.3 and that they are subject to change or removal based on public comment.

The reasons for these revisions to the treatment manual are described in detail in the treatment evaluation documents (TEDs) we have prepared to support this action. The TEDs may be viewed on the Regulations.gov Web site or in our reading room (see ADDRESSES above for instructions for accessing Regulations.gov and information on the location and hours of the reading room). You may also request paper copies of the TEDs by calling or writing to the person listed under FOR FURTHER INFORMATION CONTACT. Please refer to the subject of the TED when requesting copies.

After reviewing the comments we receive, we will announce our decision regarding the new treatment schedules described in the TEDs in a subsequent notice, in accordance with paragraph (b)(3) of § 305.3. If we do not receive any comments, or the comments we receive do not change our determination that the proposed changes are effective, we will affirm these changes to the PPQ Treatment Manual and make available a new version of the PPQ Treatment Manual reflecting these changes. If we receive comments that cause us to determine that additional changes need to be made to one or more of the treatment schedules discussed above, we will make available a new version of the PPQ Treatment Manual that reflects the changes.

Authority: 7 U.S.C. 7701-7772 and 7781-7786; 21 U.S.C. 136 and 136a; 7 CFR 2.22, 2.80, and 371.3.

Done in Washington, DC, this 24th day of March 2014.
Kevin Shea,
Administrator, Animal and Plant Health Inspection Service.

[FR Doc. 2014-06948 Filed 3-27-14; 8:45 am]

BILLING CODE 3410-34-P